DEPARTMENT OF COMMERCE

International Trade Administration

[A-533-871]

Finished Carbon Steel Flanges from India: Preliminary Results of Antidumping Duty Administrative Review and Preliminary Determination of No Shipments; 2018-2019

AGENCY: Enforcement and Compliance, International Trade Administration, Department of Commerce.

SUMMARY: The Department of Commerce (Commerce) preliminarily finds that the Norma Group and R.N. Gupta & Co. Ltd. (Gupta), producers/exporters of finished carbon steel flanges (flanges) from India, did not sell subject merchandise at prices below normal value (NV) during the period of review (POR) August 1, 2018 through July 31, 2019. Additionally, Commerce preliminarily determines that Silbo Industries, Inc. (Silbo) had no shipments of subject merchandise during the POR. We invite interested parties to comment on these preliminary results.

DATES: Applicable December 21, 2020.

FOR FURTHER INFORMATION CONTACT: Fred Baker, George McMahon, or Margaret Collins, AD/CVD Operations, Office VI, Enforcement and Compliance, International Trade Administration, U.S. Department of Commerce, 1401 Constitution Avenue NW, Washington, DC 20230; telephone: (202) 482-2924, (202) 482-1167, or (202) 482-6250, respectively.

SUPPLEMENTARY INFORMATION:

Background

On August 2, 2019, we published in the Federal Register a notice of opportunity to request an administrative review of the antidumping duty order on flanges from India, for the period August 1, 2018 through July 31, 2019.¹ Subsequently, Commerce received timely requests for an administrative review from the petitioners,² Gupta, the Norma Group, Bebitz Flanges Works Private Limited (Bebitz), and Jai Auto Pvt. Ltd. of India (Jai Auto).³ On October 7, 2019, Commerce initiated an administrative review of the Order with respect to 41 companies.⁴ On December 27, 2019, Commerce selected Gupta and the Norma Group ⁵ as the mandatory respondents for this review.⁶ On April 9, 2020, Commerce extended the deadline for the preliminary results of this review until August 28, 2020.⁷ On April 24, 2020 Commerce tolled all deadlines in administrative reviews by 50 days.⁸ On July 21, 2020 Commerce tolled all deadlines in administrative reviews by an additional 60 days.⁹ Accordingly, the deadline for the preliminary results of this administrative review is now December 16, 2020. For a complete description of the events that followed the initiation of this review, see the Preliminary Decision Memorandum.¹⁰

¹ See Finished Carbon Steel Flanges from India and Italy: Antidumping Duty Orders, 82 FR 40136 (August 24, 2017) (Order); see also Antidumping or Countervailing Duty Order, Finding, or Suspended Investigation; Opportunity To Request Administrative Review, 84 FR 37834, 37835 (August 2, 2019).

² The petitioners are Weldbend Corporation and Boltex Manufacturing Co., L.P. (collectively, the petitioners).

³ See Petitioners' Letter, “Request for Administrative Review,” dated September 3, 2019; see also Gupta's Letter, “Request for Anti-Dumping Duty Administrative Review,” dated August 30, 2019; Norma Group's Letter, “Request for an Administrative Review,” dated August 30, 2019, and Norma Group's Letter, “Request for Anti-Dumping Duty Administrative Review of Norma (India) Limited, USK Export Private Limited, Umashanker Khandelwal and Co. and Bansidhar Chiranjilal,” dated September 3, 2019; Bebitz's Letter, “Requests for Administrative Review,” dated September 3, 2019; and Jai Auto's Letter, “Request for Anti-Dumping Duty Administrative Review of Finished Carbon Steel Flanges from India,” dated August 31, 2019.

⁴ See Initiation of Antidumping and Countervailing Duty Administrative Reviews, 84 FR 53411 (October 7, 2019) (Initiation Notice).

⁵ In prior segments of this proceeding, we determined that Norma (India) Limited; USK Exports Private Limited; Uma Shanker Khandelwal & Co.; and Bansidhar Chiranjilal should be collapsed and treated as a single entity (the Norma Group). See Finished Carbon Steel Flanges from India: Preliminary Determination of Sales at Less Than Fair Value and Postponement of Final Determination, 82 FR 9719 (February 8, 2017) (Preliminary Determination) and accompanying Preliminary Decision Memorandum at 4-5; unchanged in Finished Carbon Steel Flanges from India: Final Determination of Sales at Less Than Fair Value, 82 FR 29483 (June 29, 2017) (Final Determination); Finished Carbon Steel Flanges from India: Preliminary Results of Antidumping Duty Administrative Review; 2017-2018, 84 FR 57848, 57849 (October 29, 2019), unchanged in Finished Carbon Steel Flanges from India: Final Results of Antidumping Duty Administrative Review; 2017- 2018, 85 FR 21391 (April 17, 2020) (2017-2018 Final Results). In this review, the Norma Group presented evidence that the factual basis on which Commerce made its prior determination has not changed. See Norma Group's July 23, 2020 Supplemental Questionnaire Response (Norma July 23, 2020 SQR) at 2-8. Therefore, in this administrative review, Commerce continues to collapse and treat these four companies as a single entity.

⁶ See Memorandum, “Antidumping Duty Administrative Review of Finished Carbon Steel Flanges from India: Respondent Selection,” dated December 27, 2019.

⁷ See Memorandum, “Finished Carbon Steel Flanges from India: Extension of Deadline for Preliminary Results of Antidumping Duty Administrative Review,” dated April 9, 2020.

⁸ See Memorandum, “Tolling of Deadlines for Antidumping and Countervailing Duty Administrative Reviews in Response to Operational Adjustments Due to COVID-19,” dated April 24, 2020.

⁹ See Memorandum, “Tolling of Deadlines for Antidumping and Countervailing Duty Administrative Reviews,” dated July 21, 2020.

¹⁰ See Memorandum, “Decision Memorandum for Preliminary Results of Antidumping Duty Administrative Review: Finished Carbon Steel Flanges from India; 2018-2019,” dated concurrently with, and hereby adopted by, this notice (Preliminary Decision Memorandum).

Scope of the Order

The merchandise covered by the Order is finished carbon steel flanges from India. The product is currently classified under subheadings 7307.91.5010 and 7307.91.5050 of the Harmonized Tariff System of the United States (HTSUS). Although the HTSUS subheadings are provided for convenience and customs purposes, the written description of merchandise subject to the scope is dispositive.¹¹

¹¹ For a complete description of the scope of the Order, see the Preliminary Decision Memorandum.

Rate for Non-Selected Companies

The statute and Commerce's regulations do not address the establishment of a rate to be applied to companies not selected for individual examination when Commerce limits its examination in an administrative review pursuant to section 777A(c)(2) of the Tariff Act of 1930, as amended (the Act). Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available {time}”

We preliminarily calculated a zero percent dumping margin for Gupta and the Norma Group, the mandatory respondents in this review, and have assigned this rate (i.e., 0.00 percent) to the non-selected companies.¹² For additional information, see the Preliminary Decision Memorandum. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed at http://enforcement.trade.gov/frn/index.html. The signed Preliminary Decision Memorandum and the electronic version of the Preliminary Decision Memorandum are identical in content. A list of the topics discussed in the Preliminary Decision Memorandum is attached as an Appendix to this notice.

¹² See, e.g., Xanthan Gum from the People's Republic of China: Preliminary Results of the Antidumping Duty Administrative Review, and Partial Rescission; 2018-2019, 85 FR 75686, 74687 (November 23, 2020); see also Albemarle Corp. v. United States, 821 F. 3d 1345 (Fed. Cir. 2016); see also Emulsion Styrene-Butadiene Rubber From the Republic of Korea: Preliminary Results of the Administrative Review of the Antidumping Duty Order; 2018-2019, 85 FR 39534 (July 1, 2020).

Methodology

Commerce is conducting this review in accordance with sections 751(a)(1)(B) and (2) of the Act. Export price is calculated in accordance with section 772 of the Act and normal value is calculated in accordance with section 773 of the Act. For a full description of the methodology underlying our conclusions, see the Preliminary Decision Memorandum.

Preliminary Determination of No Shipments

Based on our analysis of U.S. Customs and Border Protection (CBP) information and information provided by Silbo, we preliminarily determine that Silbo had no shipments of the subject merchandise during the POR.¹³ Consistent with Commerce's practice, we will not rescind the review with respect to Silbo, but will complete the review and issue instructions to CBP based on the final results.¹⁴

¹³ See Preliminary Decision Memorandum.

¹⁴ See Polyethylene Terephthalate Film, Sheet, and Strip from Taiwan: Final Results of Antidumping Duty Administrative Review and Final Determination of No Shipments; 2017- 2018, 85 FR 1139 (January 9, 2020).

Preliminary Results of Review

As a result of this review, Commerce preliminarily determines that the following weighted-average dumping margins exist for the period August 1, 2018 through July 31, 2019:

Producers/exporters | Weighted- average dumping margin (percent)
R. N. Gupta & Co., Ltd. | 0.00
Norma (India) Limited/USK Exports Private Limited/Uma Shanker Khandelwal & Co./Bansidhar Chiranjilal ¹⁵ | 0.00
Review-Specific Average Rate Applicable to the Following Companies:
Adinath International | 0.00
Allena Group | 0.00
Alloyed Steel | 0.00
Bebitz Flanges Works Private Limited | 0.00
C.D. Industries | 0.00
CHQ Forge | 0.00
CHW Forge Pvt. Ltd | 0.00
Citizen Metal Depot | 0.00
Corum Flange | 0.00
DN Forge Industries | 0.00
Echjay Forgings Limited | 0.00
Falcon Valves and Flanges Private Limited | 0.00
Heubach International | 0.00
Hindon Forge Pvt. Ltd. | 0.00
Jai Auto Private Limited | 0.00
Kinnari Steel Corporation | 0.00
M F Rings and Bearing Races Ltd. | 0.00
Mascot Metal Manufactures | 0.00
OM Exports | 0.00
Punjab Steel Works (PSW) | 0.00
R. D. Forge | 0.00
Raaj Sagar Steels | 0.00
Ravi Ratan Metal Industries | 0.00
Rolex Fittings India Pvt. Ltd. | 0.00
Rollwell Forge Pvt. Ltd. | 0.00
SHM (ShinHeung Machinery) | 0.00
Siddhagiri Metal & Tubes | 0.00
Sizer India | 0.00
Steel Shape India | 0.00
Sudhir Forgings Pvt. Ltd. | 0.00
Tirupati Forge | 0.00
Umashanker Khandelwal Forging Limited | 0.00

Disclosure and Public Comment

¹⁵ Commerce initiated on “Uma Shanker Khandelwal & Co.” and “Umashanker Khandelwal and Co.” based on the requests for administrative review that Commerce received from the interested parties. See Initiation Notice. Because of the minor differences in the spelling of the aforementioned company names, we have combined them under the name Uma Shanker Khandelwal & Co., which is part of the collapsed entity, the Norma Group. Furthermore, we initiated on “USK Export Private Limited,” but the requests for a review of this company referenced both “USK Export Private Limited” and “USK Exports Private Limited.” In these preliminary results, we have combined them under the name USK Exports Private Limited, which is part of the collapsed entity, the Norma Group.

Commerce intends to disclose the calculations performed in connection with these preliminary results to interested parties within five days of the date of publication of this notice, in accordance with 19 CFR 351.224(b).

Interested parties may submit case briefs to Commerce no later than 30 days after the date of publication of this notice.¹⁶ Rebuttal briefs, limited to issues raised in the case briefs, may be filed no later than seven days after the date for filing case briefs.¹⁷ Pursuant to 19 CFR 351.309(c)(2) and (d)(2), parties who submit case briefs or rebuttal briefs in this proceeding are encouraged to submit with each argument: (1) A statement of the issue; (2) a brief summary of the argument; and (3) a table of authorities.

¹⁶ See 19 CFR 351.309(c)(1)(ii).

¹⁷ See 19 CFR 351.309(d); see also Temporary Rule Modifying AD/CVD Service Requirements Due to COVID-19; Extension of Effective Period, 85 FR 41363 (July 10, 2020).

All submissions to Commerce must be filed electronically using ACCESS, and must also be served on interested parties.¹⁸ An electronically filed document must be received successfully in its entirety by Commerce's electronic records system, ACCESS, by 5:00 p.m. Eastern Time on the date that the document is due.

¹⁸ See 19 CFR 351.303(f).

Pursuant to 19 CFR 351.310(c), interested parties who wish to request a hearing must submit a written request to the Assistant Secretary for Enforcement and Compliance, filed electronically via ACCESS within 30 days of publication of this notice.¹⁹ Requests should contain: (1) The party's name, address, and telephone number; (2) the number of participants; and (3) a list of issues to be discussed. Issues raised in the hearing will be limited to those raised in the respective case and rebuttal briefs.

¹⁹ See 19 CFR 351.310(c).

Pursuant to section 751(a)(2)(B)(iv) of the Act and 19 CFR 351.213(h)(2), Commerce intends to issue the final results of this administrative review, including the results of its analysis of issues raised in any written briefs, not later than 120 days after the date of publication of this notice, unless extended.²⁰

²⁰ See section 751(a)(3)(A) of the Act; and 19 CFR 351.213(h).

Assessment Rates

Upon issuance of the final results, Commerce shall determine, and CBP shall assess, antidumping duties on all appropriate entries covered by this review.²¹

²¹ See 19 CFR 351.212(b)(1).

For any individually examined respondents whose weighted-average dumping margin is above de minimis (i.e., greater than or equal to 0.5 percent) in the final results of this review, we will calculate importer-specific ad valorem duty assessment rates based on the ratio of the total amount of antidumping duties calculated for the examined sales to the total entered value of the examined sales to that importer, and we will instruct CBP to assess antidumping duties on all appropriate entries covered by this review. For entries of subject merchandise during the POR produced by each respondent for which it did not know its merchandise was destined for the United States, we will instruct CBP to liquidate such entries at the all-others rate if there is no rate for the intermediate company(ies) involved in the transaction.²² Where either the individually-selected respondent's weighted-average dumping margin is zero or de minimis, or an importer-specific assessment rate is zero or de minimis, we will instruct CBP to liquidate the appropriate entries without regard to antidumping duties.

²² For a full discussion of this clarification, see Antidumping and Countervailing Duty Proceedings: Assessment of Antidumping Duties, 68 FR 23954 (May 6, 2003).

For the companies which were not selected for individual review, we intend to assign an assessment rate based on the methodology described in the “Rates for Non-Examined Companies” section. The final results of this review shall be the basis for the assessment of antidumping duties on entries of merchandise covered by this review where applicable.

We intend to issue instructions to CBP 15 days after the date of publication of the final results of this review.

Cash Deposit Requirements

The following deposit requirements will be effective upon publication of the notice of final results of administrative review for all shipments of the subject merchandise entered, or withdrawn from warehouse, for consumption on or after the publication date, as provided by section 751(a)(2)(C) of the Act: (1) the cash deposit rate for the companies under review will be the rate established in the final results of this review, except if the rate is de minimis within the meaning of 19 CFR 351.106(c)(1) (i.e., less than 0.50 percent), in which case the cash deposit rate will be zero; (2) for merchandise exported by manufacturers or exporters not covered in this review but covered in a prior segment of the proceeding, the cash deposit rate will continue to be the company-specific rate published for the most recently completed segment; (3) if the exporter is not a firm covered in this review, a prior review, or the original investigation, but the manufacturer is, the cash deposit rate will be the rate established for the most recently completed segment for the manufacturer of the merchandise; and (4) the cash deposit rate for all other manufacturers or exporters will continue to be 11.95 percent, the all-others rate established in the less-than-fair-value investigation.²³ These cash deposit requirements, when imposed, shall remain in effect until further notice.

²³ See Order.

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these results in accordance with sections 751(a)(1) and 777(i)(1) of the Act, and 19 CFR 351.221(b)(4).

Dated: December 15, 2020.
Jeffrey I. Kessler,
Assistant Secretary for Enforcement and Compliance.

Appendix

List of Topics Discussed in the Preliminary Decision Memorandum

I. Summary

II. Background

III. Scope of the Order

IV. Preliminary Determination of No Shipments

V. Rates for Non-Examined Companies

VI. Discussion of the Methodology

VII. Recommendation

[FR Doc. 2020-28087 Filed 12-18-20; 8:45 am]

BILLING CODE 3510-DS-P